DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: This action was issued on April 1, 2025. See Supplementary Information for relevant dates.

FOR FURTHER INFORMATION CONTACT: OFAC: Associate Director for Global Targeting, 202-622-2420; Assistant Director for Licensing, 202-622-2480; Assistant Director for Sanctions Compliance, 202-622-2490 or https://ofac.treasury.gov/contact-ofac.

SUPPLEMENTARY INFORMATION:

Electronic Availability

The SDN List and additional information concerning OFAC sanctions programs are available on OFAC's website: https://ofac.treasury.gov.

Notice of OFAC Action

On April 1, 2025, OFAC determined that the property and interests in property subject to U.S. jurisdiction of the following persons are blocked under the relevant sanctions authority listed below.

Individuals

1. AKBARI, Hossein (a.k.a. AKBARI, Hosein; a.k.a. AKBARI, Hosseyn; a.k.a. “DANIAL, Yousef”), Tehran, Iran; DOB 17 Jun 1961; nationality Iran; Additional Sanctions Information—Subject to Secondary Sanctions; Gender Male; National ID No. 0042740721 (Iran) (individual) [NPWMD] [IFSR] (Linked To: RAH ROSHD INTERNATIONAL TRADE EXCHANGES DEVELOPMENT).

Designated pursuant to section 1(a)(iv) of Executive Order 13382 of June 28, 2005, “Blocking Property of Weapons of Mass Destruction Proliferators and Their Supporters,” 70 FR 38567, 3 CFR, 2005 Comp., p. 170 (E.O. 13382), for acting or purporting to act for or on behalf of, directly or indirectly, RAH ROSHD INTERNATIONAL TRADE EXCHANGES DEVELOPMENT, a person whose property and interests in property are blocked pursuant to E.O. 13382.

2. YOUSEFNEJAD, Abbas (a.k.a. SHULAMI, Abbas Yusofnezhad; a.k.a. YOSEFNEJAD, Abbas; a.k.a. YOUSEF NEJAD, Abbas; a.k.a. YUSOFNEZHAD, Abbas; a.k.a. YUSUF NEZHAD, Abbas), Tehran, Iran; DOB 15 Jul 1986; nationality Iran; Additional Sanctions Information—Subject to Secondary Sanctions; Gender Male; National ID No. 2669933963 (Iran) (individual) [NPWMD] [IFSR] (Linked To: RAH ROSHD INTERNATIONAL TRADE EXCHANGES DEVELOPMENT).

Designated pursuant to section 1(a)(iii) of E.O. 13382 for having provided, or attempted to provide, financial, material, technological or other support for, or goods or services in support of, RAH ROSHD INTERNATIONAL TRADE EXCHANGES DEVELOPMENT, a person whose property and interests in property are blocked pursuant to E.O. 13382.

Entities

1. DIAMOND CASTLE ELECTRONICS TRADING LLC, Port Saeed, Deira, Dubai, United Arab Emirates; Additional Sanctions Information—Subject to Secondary Sanctions; Organization Established Date 19 Aug 2021; Commercial Registry Number 1597188 (United Arab Emirates); Chamber of Commerce Number 369833 (United Arab Emirates); Business Registration Number 974594 (United Arab Emirates); Economic Register Number (CBLS) 11717588 (United Arab Emirates) [NPWMD] [IFSR] (Linked To: RAH ROSHD INTERNATIONAL TRADE EXCHANGES DEVELOPMENT).

Designated pursuant to section 1(a)(iii) of E.O. 13382 for having provided, or attempted to provide, financial, material, technological or other support for, or goods or services in support of, RAH ROSHD INTERNATIONAL TRADE EXCHANGES DEVELOPMENT, a person whose property and interests in property are blocked pursuant to E.O. 13382.

2. FUTURE TRENDS GOODS WHOLESALERS LLC, Bur Dubai, Dubai, United Arab Emirates; Additional Sanctions Information—Subject to Secondary Sanctions; Organization Established Date 28 Dec 2021; Business Registration Number 1017310 (United Arab Emirates); Economic Register Number (CBLS) 11798282 (United Arab Emirates) [NPWMD] [IFSR] (Linked To: RAH ROSHD INTERNATIONAL TRADE EXCHANGES DEVELOPMENT).

Designated pursuant to section 1(a)(iii) of E.O. 13382 for having provided, or attempted to provide, financial, material, technological or other support for, or goods or services in support of, RAH ROSHD INTERNATIONAL TRADE EXCHANGES DEVELOPMENT, a person whose property and interests in property are blocked pursuant to E.O. 13382.

3. INFRACOM COMMUNICATION NETWORKS FZE, No. 724, Jebel Ali Free Zone, Dubai, United Arab Emirates; P.O. Box 262995, Dubai, United Arab Emirates; Office 434, JAFZA 14, Dubai, United Arab Emirates; website www.infracommunication.com; Additional Sanctions Information—Subject to Secondary Sanctions; Organization Established Date 08 Nov 2009; Commercial Registry Number 133319 (United Arab Emirates); Chamber of Commerce Number 184048 (United Arab Emirates); Business Registration Number 119400 (United Arab Emirates) [NPWMD] [IFSR] (Linked To: RAH ROSHD INTERNATIONAL TRADE EXCHANGES DEVELOPMENT).

Designated pursuant to section 1(a)(iii) of E.O. 13382 for having provided, or attempted to provide, financial, material, technological or other support for, or goods or services in support of, RAH ROSHD INTERNATIONAL TRADE EXCHANGES DEVELOPMENT, a person whose property and interests in property are blocked pursuant to E.O. 13382.

4. PHENOMENA INTERNATIONAL GENERAL TRADING LLC, Office 402, Ntali Haddad, Bur Dubai, Dubai, United Arab Emirates; Additional Sanctions Information—Subject to Secondary Sanctions; Organization Established Date 12 Mar 2015; Chamber of Commerce Number 1159296 (United Arab Emirates); Business Registration Number 729197 (United Arab Emirates) [NPWMD] [IFSR] (Linked To: INFRACOM COMMUNICATION NETWORKS FZE).

Designated pursuant to section 1(a)(iii) of E.O. 13382 for having provided, or attempted to provide, financial, material, technological or other support for, or goods or services in support of, INFRACOM COMMUNICATION NETWORKS FZE, a person whose property and interests in property are blocked pursuant to E.O. 13382.

5. RAH ROSHD INTERNATIONAL TRADE EXCHANGES DEVELOPMENT (a.k.a. RAH ROSHD COMPANY; a.k.a. RAH ROSHD ENGINEERING CO; a.k.a. RAH ROSHD INTERNATIONAL TRADE DEVELOPMENT COMPANY; a.k.a. TOSE'E MOBADLAT BAZARGANI BEYN OLMELALI RAH ROSHD; a.k.a. “RAH ROSHD”), Unit 7, No. 21, Firouzeh Alley, Sohrevardi St., Tehran, Iran; Karaj Special Road, Tehran, Iran; Kilometer 19 of the Special Road, in front of Golzar St., Corner of 74 St., No. 222, Tehran, Iran; website www.rahroshd.net; alt. Website www.rahroshd.ir; Additional Sanctions Information—Subject to Secondary Sanctions; Organization Established Date 07 Nov 1992; National ID No. 10101375839 (Iran); Registration Number 93476 (Iran) [NPWMD] [IFSR] (Linked To: QODS AVIATION INDUSTRIES).

Designated pursuant to section 1(a)(iii) of E.O. 13382 for having provided, or attempted to provide, financial, material, technological or other support for, or goods or services in support of, QODS AVIATION INDUSTRIES, a person whose property and interests in property are blocked pursuant to E.O. 13382.

6. ZIBO SHENBO MACHINELECTRONICS CO LTD (a.k.a. ZIBO SHENBO ELECTROMECHANICAL CO LTD), No. 76, Beishan Road, Boshan District, Zibo, Shandong Province 255200, China; Additional Sanctions Information—Subject to Secondary Sanctions; Organization Established Date 28 Jun 2002; Registration Number 370304228015542 (China); Unified Social Credit Code (USCC) 91370304740243518M (China) [NPWMD] [IFSR] (Linked To: RAH ROSHD INTERNATIONAL TRADE EXCHANGES DEVELOPMENT).

Designated pursuant to section 1(a)(iii) of E.O. 13382 for having provided, or attempted to provide, financial, material, technological or other support for, or goods or services in support of, RAH ROSHD INTERNATIONAL TRADE EXCHANGES DEVELOPMENT, a person whose property and interests in property are blocked pursuant to E.O. 13382.

Lisa M. Palluconi,
Acting Director, Office of Foreign Assets Control.

[FR Doc. 2025-06371 Filed 4-14-25; 8:45 am]

BILLING CODE 4810-AL-P